DEPARTMENT OF EDUCATION

34 CFR Chapter VI

[ED-2024-OPE-0069]

Postsecondary Student Success Grant

AGENCY: Office of Postsecondary Education, Department of Education.

ACTION: Final priorities, requirements, definitions, and selection criterion.

SUMMARY: The Department of Education (Department) issues priorities, requirements, definitions, and a selection criterion for use in the Postsecondary Student Success Grant (PSSG) program. The Department may use one or more of these priorities, requirements, definitions, and selection criterion for competitions in fiscal year (FY) 2024 and later years. We intend for these priorities, requirements, definitions, and selection criterion to support projects that equitably improve postsecondary student outcomes, including retention, upward transfer, and completions of value, by leveraging data and implementing, scaling, and rigorously evaluating evidence-based activities to support data-driven decisions and actions that lead to credentials that support economic success and further education.

DATES: These priorities, requirements, definitions, and selection criterion are effective September 16, 2024.

FOR FURTHER INFORMATION CONTACT: Nemeka Mason-Clercin, U.S. Department of Education, 400 Maryland Avenue SW, 5th floor, Washington, DC 20202-4260. Telephone: (202) 987-1340. Nalini Lamba-Nieves, U.S. Department of Education, 400 Maryland Avenue SW, room 5C127, Washington, DC 20202-4260. Telephone: (202) 453-7953. Email: PSSG@ed.gov.

If you are deaf, hard of hearing, or have a speech disability and wish to access telecommunications relay services, please dial 7-1-1.

SUPPLEMENTARY INFORMATION: Purpose of Program: The purpose of the PSSG program is to equitably improve postsecondary student outcomes, including retention, upward transfer, and completions of value, by leveraging data and implementing, scaling, and rigorously evaluating evidence-based activities to support data-driven decisions and actions that lead to credentials that support economic success and further education.

Assistance Listing Number: 84.116M.

Program Authority: 20 U.S.C. 1138-1138d.

We published a notice of proposed priorities, requirements, and definitions in the Federal Register on June 7, 2024 (89 FR 48517) (NPP). That document contained background information and the Department's reasons for proposing the particular priorities, requirements, and definitions. There are several differences between the proposed priorities, requirements, and definitions and these final priorities, requirements, definitions, and selection criterion. They include changing Proposed Priority 4 on using data for continuous improvement to a selection criterion and adding examples of evaluation strategies; revising the scaling requirements for the mid-phase and expansion priorities; revising the definition of “completions of value”; and revising the examples of allowable uses of funds to include using data to administer the program effectively at the institution and/or State or system levels, capacity building, rigorous evaluations, technology-assisted supports, tutoring and supplemental instruction, peer mentoring, and support for students with disabilities.

Public Comment: In response to our invitation in the NPP, 23 parties submitted comments on the proposed priorities, requirements, and definitions. Generally, we do not address technical and other minor changes, or suggested changes that the law does not authorize us to make under applicable statutory authority. In addition, we do not address general comments that raised concerns not directly related to the proposed priorities, requirements, or definitions.

Analysis of Comments and Changes: An analysis of the comments and of any changes in the priorities, requirements, and definitions since publication of the NPP follows.

General Comments

Comments: Several commenters praised the Department for conducting rulemaking for the PSSG program and for the proposed priorities, requirements, and definitions. For example, several commenters supported the Department's use of evidence standards within Proposed Priorities 1, 2, and 3, and the use of completions of value. Other commenters supported the Department's proposed uses of funds.

Discussion: We appreciate the support of the grant program and the priorities, requirements, and definitions.

Changes: None.

Comments: Several commenters proposed recommendations for which priorities and selection criteria from the NPP should be utilized in a competition, how the selection criteria should be evaluated, what information applicants should be provided, and other components of the application process. Others suggested that we apply the requirements in the recently updated Uniform Grants Guidance.

Discussion: The components of an individual application, including which specific priorities to use, and the guidelines for the application process are laid out in the notice inviting applications that is developed for each competition and do not require additional rulemaking for this grant program. The requirements from the new Uniform Grants Guidance can be utilized without inclusion in the NFP since they have already gone through rulemaking.

Changes: None.

Comments: One commenter criticized the priorities, stating that it is discriminatory to focus on “underserved students” and that the program lacks accountability measures to prevent misuse of the research project support services for certain students and suggested that there should be an opt-out provision for students.

Discussion: The PSSG program is designed to enable institutions to implement evidence-based projects to support student success for a targeted group of students who are underrepresented among college completers. However, nothing in these priorities precludes applicants from proposing to also serve students who are not included in the definition of “underserved students” yet need additional support to complete college. The program holds grantees accountable through, among other things, monitoring of the grants, which includes requiring grantees to report annually on program-specific performance measures. Regarding the opt-out provisions, institutions manage their own opt-in/opt-out policies with regard to student participation in their grant-funded activities.

Changes: None.

Comments: Two commenters questioned the effectiveness of taking a statistics-focused approach to improving student outcomes.

Discussion: Research demonstrates that data-informed decision-making is an important component of a people-driven continuous improvement process to improve student outcomes, which is the approach promoted in this grant program.¹

¹ See, for example, Association of Governing Boards of Universities and Colleges (2019). Innovation in Higher Education: A Case Study of Georgia State University. Washington, DC. Retrieved from: https://agb.org/wp-content/uploads/2019/01/case_study_innovation_georgia.pdf; and Gagliardi, J., Parnell, A., and Carpenter-Hubin, J. (Eds). (2018). The Analytics Revolution in Higher Education: Big Data, Organizational Learning, and Student Success. Routledge.

Changes: None.

Comments: One commenter expressed concern about the privacy of student data.

Discussion: The Department does not collect individual-level data for the PSSG program. Institutions that use student-level data to support individuals through to completion must comply with the Family Educational Rights and Privacy Act (FERPA) (20 U.S.C. 1232g; 34 CFR part 99).

Changes: None.

Comments: One commenter suggested that the priorities and requirements be used to collect enrollment and persistence data on students with disabilities.

Discussion: Under the final selection criterion under which applicants will identify or describe how they will develop performance and outcome measures, applicants will also describe how they will disaggregate data by student subgroups, which may include students with disabilities if relevant to the project. In addition, under Priorities 1, 2, and 3, projects must be focused on improving outcomes for underserved students, which may include students with disabilities. Nothing in the proposed requirement regarding allowable use of funds precluded support for students with disabilities, but we are explicitly adding it to the list of examples to underscore the importance of supporting this population.

Changes: We have added support for students with disabilities as an explicit allowable student success strategy in the allowable uses of funds requirement.

Priorities

Comment: One commenter suggested that the Department consider whether the programs in which students are being retained or to which they are transferring meet the value threshold in the definition of “completions of value.”

Discussion: The Department does not have the capacity to apply the value measure at the program level, and PSSG currently is not targeted at the program level. However, we recognize the importance of not limiting this measure to completion. Accordingly, we are revising the definition of “completions of value” to also address retention and transfer outcomes. In responding to Priorities 1, 2, and 3, applicants will be expected to demonstrate how their proposed projects will improve postsecondary success for underserved students by increasing completions of value that lead to further education through upward transfer or graduate education and/or lead to economic mobility.

Changes: We added to the definition of “completions of value” that students must be retained at and/or transfer to institutions conferring completions of value.

Comments: One commenter suggested we retain the focus of the PSSG program on degree completion, rather than establish a new definition of “completions of value,” because they claimed it would be burdensome to the grant application and administration processes for the applicant to demonstrate post-completion return on investment due to limited available data.

Discussion: The Department intends to use existing College Scorecard data and generate additional College Scorecard measures related to completions of value that institutions can use as part of their reporting on this metric for PSSG, since we recognize that it is difficult for some institutions to obtain earnings data.

Changes: None.

Comments: Three commenters suggested that the Department adopt a selection criterion regarding data collection and continuous improvement processes at the institution after the grant period, rather than address the topic through a priority. Another commenter suggested we add examples of evaluation strategies to this priority that include rapid-cycle experimentation, pilots, feasibility studies, and implementation research.

Discussion: We agree with the commenters about the importance of this component to this grant program and believe that if we address it through a selection criterion instead of a priority, it will incentivize more applicants to develop robust data collection and continuous improvement strategies, since it will be factored into the scores of all applicants. While all of the evaluation strategies the commenter mentions are already allowable, we have added them as examples to make it clear for future applicants.

Changes: We have changed Proposed Priority 4 to a selection criterion and added examples of evaluation strategies.

Comments: One commenter suggested that we eliminate Proposed Priority 5, stating that the grant awards should not be selected based on specific strategies to improve retention and completion, and another commenter requested that we keep it. One commenter suggested we include it as an allowable use of funds instead of a priority. Finally, one commenter praised the Department for including this priority but suggested that we add experiential learning in addition to credentials of value.

Discussion: We believe that college-to-career pathways and supports are a critical component of student success, and therefore are retaining this as a priority. We agree with the commenter about the important role experiential learning can play, especially for adult learners with some college but no credential, and added language to the priority to reflect this.

Changes: We have added language to Proposed Priority 5 to indicate that participating in experiential learning can be part of a college-to-career pathway.

Comment: In response to our request in the NPP for feedback on the proposed scale requirements for the mid-phase and expansion tiers of evidence, we received numerous comments with recommendations. A common theme among the commenters was to suggest that we eliminate the use of specific numbers of students required in order to demonstrate scale or, if maintained, lower the number to 350 from EDGAR's current definitions of “strong evidence” and “moderate evidence.” In lieu of using population metrics, commenters had several suggestions, including utilizing the rigor of evaluations, the caliber of the research, the reasonableness of the costs, the strategy to effectively scale, and the impacts on college completion—specifically to advance equity or participant outcomes. One commenter suggested that we use, instead of the proposed scale requirements for the mid-phase and expansion tiers of evidence, a three-part requirement for each grant type that would include requiring all mid-phase and expansion grant applicants to demonstrate they will be able to conduct a well-powered study with the number of students they propose to serve; meet the minimum standard for studies that meet the definition of “moderate evidence” or “strong evidence,” which is 350 students; and implement the intervention at multiple sites with mid-phase grants implemented at multiple campuses and expansion grants implemented either at multiple institutions or multiple campuses, where the campuses serve different types of underserved students or in different locales.

Discussion: We agree with the comments on aligning the scale and multisite requirements with the What Works Clearinghouse (WWC) guidelines defined in EDGAR given one of the stated goals of the program is to generate quality evidence about what works to improve postsecondary student success. Because the WWC guidelines for “moderate evidence” and “strong evidence” do not differ in the required number of sites or scale, we changed the priority language so that the requirements for mid-phase and expansion projects do not include a specific number of students, and we do not differentiate in the number of sites or students required for moderate and strong evidence. We also agree with the comments on ensuring the projects demonstrate positive impact on underserved populations to align with the goal of the program to equitably improve outcomes.

Changes: For mid-phase projects, we have changed the priority to provide that projects must be implemented at multiple institutions of higher education or multiple campuses of the same institution and be intentionally designed to detect the impact of the project, if any, on all students served by the project as well as on at least one population of underserved students (as defined in this document) or between institutions of different locales. For expansion projects, we have changed the priority to provide that projects must be implemented at multiple institutions of higher education and be intentionally designed to detect the impact of the project, if any, on all students served by the project as well as on at least one population of underserved students (as defined in this notice) or between institutions of different locales.

Comments: One commenter suggested adding a priority for projects at lower-resourced institutions serving a significant population of high-need students and with low completion rates or large completion disparities.

Discussion: We agree with the commenter that projects should be at institutions that are lower-resourced and have a significant population of underserved students and completion disparities. That is why the eligibility is targeted to title III and V institutions, which are generally under-resourced institutions with a disproportionate enrollment of students from groups who are underrepresented among college completers, such as students from low-income backgrounds.

Changes: None.

Requirements

Comments: Numerous commenters suggested we add to the list of allowable uses of funds. Recommendations included adding capacity-building, the costs of rigorous evaluation, data to administer the program, development and use of data systems to leverage integrated data systems, data systems, data capacity support, professional development resources for data and institutional effectiveness researchers, credit for prior learning, adaptive courseware, hybrid-flex courses, peer mentoring strategies, supplemental instruction, mental health, basic needs, and the integration of academic coursework and career advising.

Discussion: We agree with the commenters that all of these are allowable uses. While the list provided in the proposed requirement is not comprehensive, several of the suggested uses are critical components for the PSSG program, so we have added to the list of examples. The list in the proposed requirement included several allowable uses to support Proposed Priority 5, including integrated career planning, counseling, and coaching, work-based learning opportunities, and college-to-career navigation support, so we do not think other examples regarding the integration of academic coursework and career advising are needed. It also already included basic needs and mental health uses. Developing and using data systems is already included as an allowable use and the approaches to do so are not limited by the current language.

Changes: We have added using data to administer the program effectively at the institution and/or State or system levels, capacity building, and rigorous evaluation to the list of examples of allowable uses of funds. We also have added technology-assisted supports, tutoring and supplemental instruction, and peer mentoring as examples of allowable uses of funds for student success strategies.

Comments: One commenter suggested that we provide that if a grantee uses funds to include financial assistance as a component of their project, they must propose to use at least one additional allowable component in conjunction with the financial assistance.

Discussion: The Department does not believe such a stipulation necessary. As a tiered evidence program, PSSG is designed to allow the available evidence of what works in improving postsecondary student outcomes to guide applicants in designing their proposed activities. The Department also believes that applicants are in the best position to determine what uses of funds would best serve to improve their students' postsecondary outcomes. Under each of the priorities, successful applicants will identify the key project components based on their review of the studies they cite as evidence for their projects. The applicant must develop a project that meets the goals of the program as laid out in the priorities but can do so by selecting the tools that they choose.

Changes: None.

Comments: One commenter suggested adding language to the independent evaluation requirement to ensure that the evaluations are “well-designed, well-implemented, and sufficiently powered” to meet WWC standards for “moderate evidence” or “strong evidence.”

Discussion: The Department agrees that the evaluation of these projects should be well-designed, well-executed, and sufficiently powered to yield credible results. We will use selection criteria to ensure that projects include a plan to conduct evaluations that are intentionally designed to meet WWC standards (with or without reservations). As part of the selection process, WWC-certified peer reviewers will assess the rigor of the evaluation plans. Accordingly, it would be redundant to also address this area of focus in the independent evaluation requirement.

Changes: None.

Comments: While praising the requirement that evaluations be posted to ERIC, two commenters suggested that the Department not put the burden on the grantee to submit the evaluations to ERIC. Instead, they suggested that grantees submit the evaluation reports to the Department within one month of completion and the Department post this information to the Awards page.

Discussion: We disagree with the commenters that requiring the grantee to submit evaluations to ERIC would be burdensome. We agree that it is critical to make sure the evaluations are transparent and made public. We intend to share the evaluations publicly on the Department's website.

Changes: None.

Comments: Several commenters submitted recommendations for the requirements of evaluations that are submitted, including that they use the most updated version of the WWC Handbook; that the evaluations of early-phase projects be designed to meet WWC standards with or without reservations and that the evaluations of mid-phase and expansion grants be designed to meet WWC standards without reservations; that evaluations have methodologies appropriate to the research question being studied; and that the Department provide institutions with clear guidance on how to submit a relevant study for review to determine if a study meets WWC standards, including that the institutions have an equitable opportunity to compete at the expansion phase without being limited based on studies that are readily accessible in WWC.

Discussion: We appreciate the suggestions to ensure that the evaluation methods are all evidence based and high quality. These recommendations do not require rulemaking for this grant program and would be considered in the application and peer review process.

Changes: None.

Comments: Two commenters recommended not restricting the indirect cost rate.

Discussion: The Department maintains limiting the indirect cost reimbursement to 8 percent of a modified total direct cost base. The Department continues to believe that this limitation effectively maximizes the Federal resources that support direct costs associated with the project.

Changes: None.

Comments: Several commenters had recommendations for the types of entities that would be eligible for the grant. Four commenters suggested that eligibility not be limited to institutions that are designated as a title III or V school, including one suggestion that public two-year community and technical colleges be added. Two commenters suggested allowing non-profit organizations to be an eligible entity alone, rather than requiring a partnership with a title III or V institution, and another commenter suggested that we require the institution to be the lead applicant. A couple commenters supported allowing non-profits to apply in partnership with title III or V institutions. One commenter asked that businesses be able to partner with institutions, and one commenter asked that for-profit institutions be prohibited from applying.

Discussion: The Department believes that targeting funding to title III and V institutions is the best use of the available funds because these institutions disproportionately enroll students from groups who are underrepresented among college completers, such as students from low-income backgrounds. Supporting retention and completion strategies at these institutions offers the greatest potential to close gaps in postsecondary outcomes. Additionally, these under-resourced institutions are most in need of Federal assistance to implement and evaluate evidence-based postsecondary college retention and completion interventions. More than half of public two-year institutions are title III/V eligible and would be eligible for a grant. Under the eligibility requirement, non-profits may apply for the funding, as long as they do so in partnership with an institution of higher education. It does not matter which entity is the lead applicant since all entities applying through the partnership are subject to the same “Group Application” requirements under 34 CFR 75.127-129. Given that the innovation would need to occur at an institution, we do not believe it is workable to allow a non-profit to apply without partnership with an institution of higher education. Furthermore, there is nothing that currently prohibits eligible applicants from collaborating with businesses, and for-profit institutions are not eligible institutions.

Changes: None.

Comments: One commenter suggested that we specifically include Hispanic-serving institutions (HSIs) as eligible entities.

Discussion: HSIs are eligible as title III/title V institutions.

Changes: None.

Comments: None.

Discussion: In Proposed Requirement 3, we specified certain circumstances under which the Secretary may waive the matching requirement on a case-by-case basis based on certain showings by the “lead applicant.”

Changes: We have revised Requirement 3, section (b) Waiver Authority, to clarify that data showing certain exceptional circumstances should pertain to the “eligible institution(s)” instead of the lead applicant in order to address circumstances where certain eligible entities apply in partnership with title III or V institutions.

Definitions

Comments: Two commenters suggested changes to the definition of “completions of value.” One commenter suggested we use Threshold 0 from the Postsecondary Value Commission framework, and another commenter suggested we incorporate local workforce data.

Discussion: Our proposed definition aligns with the Postsecondary Value Commission framework by measuring the percentage of students earning enough to recoup their costs and experience an earnings premium over high school graduates, and adds the percentage of students pursuing further education. We recognize the importance of not comparing schools nationally on earnings and so our definition also utilizes State-level high school earnings data. The Department does not have the capacity to factor in local workforce data.

Changes: We adjusted the definition to clarify how the percentage of students is calculated and how State earnings data is used in the construction of the metric.

Comments: One commenter suggested that in the definition of “underserved student,” we include a more detailed description of “student of color” to align with the Office of Management and Budget (OMB)'s Race and Ethnicity Standards.

Discussion: The term “student of color” is undefined, consistent with the Secretary's Supplemental Priorities, to ensure consistency across the Department's discretionary grant programs and to allow institutions to define the term in a manner they choose, to be consistent with how they do so internally for other purposes.

Changes: None.

Final Priorities

The Secretary establishes the following priorities for use in the PSSG Program.

Priority 1—Early Phase.

Projects that are designed to improve postsecondary success for underserved students by increasing completions of value that lead to further education through upward transfer or graduate education and/or lead to economic mobility, and are supported by evidence that meets the definition of Demonstrates a Rationale (as defined in 34 CFR 77.1) or Promising Evidence (as defined in 34 CFR 77.1).

Priority 2—Mid-Phase: Projects Supported by Moderate Evidence.

Projects that are designed to improve postsecondary success for underserved students by increasing completions of value that lead to further education through upward transfer or graduate education and/or lead to economic mobility, and are supported by evidence that meets the definition of Moderate Evidence (as defined in 34 CFR 77.1). Projects under this priority must be implemented at multiple institutions of higher education or multiple campuses of the same institution and be intentionally designed to detect the impact of the project, if any, on all students participating in the project as well as on at least one population of underserved students or between institutions of different locales.

Priority 3—Expansion: Projects Supported by Strong Evidence.

Projects that are designed to improve postsecondary success for underserved students by increasing completions of value that lead to further education through upward transfer or graduate education and/or lead to economic mobility, and are supported by evidence that meets the definition of Strong Evidence (as defined in 34 CFR 77.1). Projects under this priority must be implemented at multiple institutions of higher education and be intentionally designed to detect the impact of the project, if any, on all students participating in the project as well as on at least one population of underserved students or between institutions of different locales.

Priority 4—Projects That Support College-to-Career Pathways and Supports.

Projects that propose to build upon demonstrated progress toward integrating, or that propose a plan to integrate, career-connected learning and advising support into their postsecondary success strategies, which may include participation in experiential learning, to ensure students earn completions of value that lead to economic success and/or further education. Projects may include aligning academic coursework with career pathways and outcomes; developing and implementing program-level credential maps to create college-to-career pathways, including across institutions via transfer; integrating career planning, counseling, and coaching into holistic advising support; offering work-based learning opportunities aligned with students' programs of study; and providing navigation support to help graduates transition from college to career.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Requirements

The Secretary establishes the following requirements for use in the PSSG Program.

Requirement 1: Uses of Funds.

Program funds must be used for one or more of the following allowable uses of funds:

(a) Developing and using data systems, tools, and training to implement data-driven processes and interventions as part of a comprehensive continuous improvement effort, as well as to administer the program effectively at the institution and/or State or system levels;

(b) Implementing student success strategies, including but not limited to whole-college improvement models; course redesign to implement co-requisite remediation or career-connected math pathways including through use of technology-assisted supports; tutoring and supplemental instruction; intensive, integrated advising models including program maps with progress checks, case management approaches, coaching, and peer mentoring; financial support, including need-based aid, emergency aid, and basic needs and behavioral health support and services; transfer support (as applicable), including four-year transfer maps, co-enrollment and co-advising across institutions, and regional transfer partnerships; support for students with disabilities; career support, including integrated career planning, counseling, and coaching, work-based learning opportunities, and college-to-career navigation support; or other evidence-based student success strategies and capacity building to implement student success strategies; and

(c) Providing for rigorous evaluation of the program interventions.

Requirement 2: Indirect Cost Rate Information.

A grantee's indirect cost reimbursement is limited to eight percent of a modified total direct cost base. For more information regarding indirect costs, or to obtain a negotiated indirect cost rate, please see www.ed.gov/about/offices/list/ocfo/intro.html.

Requirement 3: Matching Requirements and Exceptions.

(a) Matching Requirement. Grantees must provide a ten percent match, which may include in-kind donations.

(b) Waiver Authority. The Secretary may waive the matching requirement on a case-by-case basis upon a showing of any of the following exceptional circumstances:

(1) The difficulty of raising matching funds for a program to serve an area with high rates of poverty in the eligible institution(s)' geographic location(s), defined as a Census tract, a set of contiguous Census tracts, an American Indian Reservation, Oklahoma Tribal Statistical Area (as defined by the U.S. Census Bureau), Alaska Native Village Statistical Area or Alaska Native Regional Corporation Area, Native Hawaiian Homeland Area, or other Tribal land or county that has a poverty rate of at least 25 percent as determined every 5 years using American Community Survey 5-Year data;

(2) Serving a significant population of students from low-income backgrounds at the eligible institution(s)' location(s), defined as at least 50 percent (or the eligibility threshold for the appropriate institutional sector available at https://www2.ed.gov/about/offices/list/ope/idues/eligibility.html#app) of degree-seeking enrolled students receiving need-based grant aid under title IV of the Higher Education Act of 1965, as amended (HEA); or

(3) Significant economic hardship as demonstrated by low average educational and general expenditures per full-time equivalent undergraduate student at the eligible institution(s)' location(s), in comparison with the average educational and general expenditures per full-time equivalent undergraduate student of institutions that offer similar instruction without need of a waiver, as determined by the Secretary in accordance with the annual process of designation of title III and title V institutions.

Requirement 4: Limitation on Grant Awards.

The Department will make awards to only applicants that are not the individual or lead applicant in a current active grant from the PSSG program.

Requirement 5: Supplement-not-Supplant.

Grant funds must be used so that they supplement and, to the extent practical, increase the funds that would otherwise be available for the activities to be carried out under the grant and in no case supplant those funds.

Requirement 6: Independent Evaluation.

Grantees must conduct an independent evaluation of the effectiveness of the project and submit the evaluation report to ERIC, available at https://eric.ed.gov/, in a timely manner.

Requirement 7: Eligible Entities.

Eligible entities are title III or V institutions; nonprofits in partnership with title III or V institutions; States in partnership with title III or V institutions; or systems of public institutions of higher education.

Final Definitions

The Secretary establishes the following definitions for use in the PSSG program.

Completions of value measures the percentage of credentials that lead to further education through upward transfer or graduate education and/or that lead to economic mobility through earning enough to experience a premium over high school graduates in one's State and earning enough to recoup one's investment in postsecondary education. The student must also be retained at, or transferring to, an institution that confers completions of value.

Continuous improvement means using plans for collecting and analyzing data about a project component's (as defined in 34 CFR 77.1) implementation and outcomes (including the pace and extent to which project outcomes are being met) to inform necessary changes throughout the project. These plans may include strategies to gather ongoing feedback from participants and stakeholders on the implementation of the project component.

English learner means an individual who is an English learner as defined in section 8101(2) of the Elementary and Secondary Education Act of 1965, as amended, or an individual who is an English language learner as defined in section 203(7) of the Workforce Innovation and Opportunity Act.

Historically Black College or University means an institution that meets the eligibility requirements under section 322(2) of the HEA.

Independent evaluation means an evaluation of a project component that is designed and carried out independently of, but in coordination with, the entities that develop or implement the project component.

Minority-serving institution means an institution that is eligible to receive assistance under sections 317 through 320 of part A of title III, or under title V of the HEA.

Student with a disability means any student enrolled at an institution of higher education (including those accepted for dual enrollment) who meets the definition of an individual with a disability as defined in section 3 of the Americans with Disabilities Act of 1990 (42 U.S.C. 12102).

Tribally Controlled Colleges or Universities has the meaning ascribed it in section 316(b)(3) of the HEA.

Underserved student means a student in one or more of the following subgroups:

(a) A student who is living in poverty or is served by schools with high concentrations of students living in poverty.

(b) A student of color.

(c) A student who is a member of a federally recognized Indian Tribe.

(d) An English learner.

(e) A student with a disability.

(f) A student experiencing homelessness or housing insecurity.

(g) A lesbian, gay, bisexual, transgender, queer or questioning, or intersex (LGBTQI+) student.

(h) A pregnant, parenting, or caregiving student.

(i) A student who is the first in their family to attend postsecondary education.

(j) A student enrolling in or seeking to enroll in postsecondary education for the first time at the age of 20 or older.

(k) A student who is working full-time while enrolled in postsecondary education.

(l) A student who is enrolled in, or is seeking to enroll in, postsecondary education who is eligible for a Pell Grant.

(m) An adult student in need of improving their basic skills or an adult student with limited English proficiency.

Final Selection Criterion

Using Data for Continuous Improvement.

The extent to which the proposed project will build upon demonstrated progress toward improved student outcomes, or the extent to which the proposed project includes a plan to improve student outcomes for underserved students, by using data to continually assess and improve the outcomes associated with funded activities and sustain data-driven continuous improvement processes at the institution after the grant period.

Applicants addressing this selection criterion must—

(a) Identify, or describe how they will develop, the performance and outcome measures they will use to monitor and evaluate implementation of the intervention(s), including baseline data, intermediate and annual targets, and disaggregation by student subgroups;

(b) Describe how they will assess and address gaps in current data systems, tools, and capacity, and how they will monitor and respond to performance and outcome data to improve implementation of the intervention(s) on an ongoing basis and as part of formative (which may include rapid-cycle evaluation, pilots, feasibility studies, and implementation research) and summative evaluation of the intervention(s); and

(c) Describe how institutional leadership will be involved with, and supportive of, project leadership and how the project relates to the institution's broader student success priorities and improvement processes.

This document does not preclude us from proposing additional priorities, requirements, definitions, or selection criteria, subject to meeting applicable rulemaking requirements.

Note: This document does not solicit applications. In any year in which we choose to use any of these priorities, requirements, definitions, or selection criterion, we invite applications through a notice in the Federal Register.

Executive Orders 12866, 13563, and 14094

Regulatory Impact Analysis

Under Executive Order 12866, the Office of Management and Budget (OMB) determines whether this regulatory action is “significant” and, therefore, subject to the requirements of the Executive order and subject to review by OMB. Section 3(f) of Executive Order 12866, as amended by Executive Order 14094, defines a “significant regulatory action” as an action likely to result in a rule that may—

(1) Have an annual effect on the economy of $200 million or more (adjusted every three years by the Administrator of Office of Information and Regulatory Affairs (OIRA) for changes in gross domestic product); or adversely affect in a material way the economy, a sector of the economy, productivity, competition, jobs, the environment, public health or safety, or State, local, territorial, or Tribal governments or communities;

(2) Create a serious inconsistency or otherwise interfere with an action taken or planned by another agency;

(3) Materially alter the budgetary impacts of entitlements, grants, user fees, or loan programs or the rights and obligations of recipients thereof; or

(4) Raise legal or policy issues for which centralized review would meaningfully further the President's priorities, or the principles set forth in this Executive order, as specifically authorized in a timely manner by the Administrator of OIRA in each case.

This final regulatory action is not a significant regulatory action subject to review by OMB under section 3(f) of Executive Order 12866, as amended by Executive Order 14094.

We have also reviewed this final regulatory action under Executive Order 13563, which supplements and explicitly reaffirms the principles, structures, and definitions governing regulatory review established in Executive Order 12866, as amended by Executive Order 14094.

To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing these final priorities, requirements, definitions, and selection criterion only on a reasoned determination that their benefits would justify their costs. In choosing among alternative regulatory approaches, we selected those approaches that would maximize net benefits. Based on the analysis that follows, the Department believes that this regulatory action is consistent with the principles in Executive Order 13563.

The potential costs associated with these priorities, requirements, definitions, and selection criterion would be minimal, while the potential benefits are significant. The Department believes that this final regulatory action would not impose significant costs on eligible entities. Participation in this program is voluntary, and the costs imposed on applicants by this regulatory action would be limited to paperwork burden related to preparing an application. The potential benefits of implementing the program would outweigh the costs incurred by applicants, and the costs of carrying out activities associated with the application would be paid for with program funds. For these reasons, we have determined that the costs of implementation would not be burdensome for eligible applicants, including small entities.

We also have determined that this regulatory action would not unduly interfere with State, local, and Tribal governments in the exercise of their governmental functions.

In accordance with these Executive orders, the Department has assessed the potential costs and benefits, both quantitative and qualitative, of this regulatory action. The potential costs are those resulting from statutory requirements and those we have determined as necessary for administering the Department's programs and activities.

Intergovernmental Review: This program is subject to Executive Order 12372 and the regulations in 34 CFR part 79. One of the objectives of the Executive order is to foster an intergovernmental partnership and a strengthened federalism. The Executive order relies on processes developed by State and local governments for coordination and review of Federal financial assistance.

This document provides early notification of our specific plans and actions for this program.

Regulatory Flexibility Act Certification

The Secretary certifies that these final priorities, requirements, definitions, and selection criterion would not have a significant economic impact on a substantial number of small entities.

The small entities that this final regulatory action would affect are institutions that meet the applicable eligibility requirements. The Secretary believes that the costs imposed on applicants by the final priorities, requirements, definitions, and selection criterion would be limited to paperwork burden related to preparing an application and that the benefits would outweigh any costs incurred by applicants.

Participation in this program is voluntary. For this reason, the final priorities, requirements, definitions, and selection criterion would impose no burden on small entities unless they applied for funding under the program. We expect that in determining whether to apply for PSSG program funds, an eligible applicant would evaluate the requirements of preparing an application and any associated costs and weigh them against the benefits likely to be achieved by receiving PSSG funds. Eligible applicants most likely would apply only if they determine that the likely benefits exceed the costs of preparing an application. The likely benefits include the potential receipt of a grant as well as other benefits that may accrue to an entity through its development of an application.

This final regulatory action would not have a significant economic impact on any small entity once it receives a grant because it would be able to meet the costs of compliance using the funds provided under this program.

Paperwork Reduction Act of 1995

As part of its continuing effort to reduce paperwork and respondent burden, the Department provides the general public and Federal agencies with an opportunity to comment on proposed and continuing collections of information in accordance with the Paperwork Reduction Act of 1995 (PRA) (44 U.S.C. 3501 et seq.). This helps ensure that the public understands the Department's collection instructions, respondents provide the requested data in the desired format, reporting burden (time and financial resources) is minimized, collection instruments are clearly understood, and the Department can properly assess the impact of collection requirements on respondents.

The final selection criterion contains information collection requirements. Under the PRA the Department has submitted this selection criterion to OMB for its review.

A Federal agency may not conduct or sponsor a collection of information unless OMB approves the collection under the PRA and the corresponding information collection instrument displays a currently valid OMB control number. Notwithstanding any other provision of the law, no person is required to comply with, or is subject to penalty for failure to comply with, a collection of information if the collection instrument does not display a currently valid OMB control number.

Collection of Information: Using Data for Continuous Improvement

Eligible entities under this program are title III or V institutions; nonprofits in partnership with title III or V institutions; States in partnership with title III or V institutions; or systems of public institutions of higher education. The collection of information would include eligible applicants responding to this final selection criterion: Using Data for Continuous Improvement, which we changed from a priority to a selection criterion based on public comment in response to the NPP. The Department will utilize the selection criteria in selecting eligible applicants for funding. Eligible applicants must respond to the selection criteria within the application package for this program. We estimate the annual burden for the information collection to average 8,400 hours, from 210 eligible applicants at 40 hours per response, including the time for reviewing instructions, searching existing data sources, gathering and maintaining the data needed, and completing and reviewing the collection of information. Thus, we estimate the total burden for this collection to be 8,400 hours. At $47.20 per hour, the total annualized estimated cost for 210 eligible applicants to respond to final selection criteria is approximately $396,480.

Consistent with 5 CFR 1320.8(d), the Department is soliciting comments on the information collection through this document. Between 30 and 60 days after publication of this document in the Federal Register, OMB is required to make a decision concerning the collections of information contained in this requirement. Therefore, to ensure that OMB gives your comments full consideration, it is important that OMB receives your comments on the Postsecondary Student Success Grant (PSSG) Program Application Information Collection Request by September 16, 2024. Comments related to the information collection activities must be submitted electronically through the Federal eRulemaking Portal at www.regulations.gov by selecting the Docket ID number ED-2024-OPE-0069 or via postal mail, commercial delivery, or hand delivery by referencing the Docket ID number and the title of the information collection request at the top of your comment. Comments submitted by postal mail or delivery should be addressed to the PRA Coordinator of the Strategic Collections and Clearance Governance and Strategy Division, U.S. Department of Education, 400 Maryland Ave. SW, Room 4C210, Washington, DC 20202-1200.

We consider your comments on this proposed collection of information in—

• Deciding whether the proposed collection is necessary for the proper performance of our functions, including whether the information will have practical use;

• Evaluating the accuracy of our estimate of the burden of the proposed collection, including the validity of our methodology and assumptions;

• Enhancing the quality, usefulness, and clarity of the information we collect; and

• Minimizing the burden on those who must respond. This includes exploring the use of appropriate automated, electronic, mechanical, or other technological collection techniques.

Accessible Format: On request to one of the program contact persons listed under FOR FURTHER INFORMATION CONTACT, individuals with disabilities can obtain this document in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site you can view this document, as well as all other Department documents published in the Federal Register, in text or Portable Document Format (PDF). To use PDF, you must have Adobe Acrobat Reader, which is available free at the site.

You may also access Department documents published in the Federal Register by using the article search feature at www.federalregister.gov. Specifically, through the advanced search feature at this site, you can limit your search to documents published by the Department.

Nasser Paydar,
Assistant Secretary for Postsecondary Education.

[FR Doc. 2024-17709 Filed 8-14-24; 8:45 am]

BILLING CODE 4000-01-P